DEPARTMENT OF DEFENSE

Department of the Army

Privacy Act of 1974; System of Records

AGENCY: Department of the Army, DoD.

ACTION: Notice to amend systems of records.

SUMMARY: The Department of the Army is amending 15 systems of records notices in its existing inventory of records systems subject to the Privacy Act of 1974, (5 U.S.C. 552a), as amended.

The amendments are required to alert the users of these systems of records of the additional requirements of the Health Insurance Portability and Accountability Act (HIPAA) of 1996, as implemented by DoD 6025.18-R, DoD Health Information Privacy Regulation. Language being added under the “Routine Use” category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: This proposed action will be effective without further notice on May 5, 2003 unless comments are received which result in a contrary determination.

ADDRESSES: Department of the Army, Freedom of Information/ Privacy Act Office, U.S. Army Records Management and Declassification Agency, Attn: TAPC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 25, 2003.
Patricia L. Toppings,
Alternate OSD Federal Register Liaison Officer, Department of Defense.

AAFES 0405.11

System name:

Individual Health Records (August 9, 1996, 61 FR 41577).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

AAFES 0405.11

System name:

Individual Health Records.

System location:

Headquarters, Army and Air Force Exchange Service, 3911 S. Walton Walker Boulevard, Dallas, TX 75236-1598; HQ Army and Air Force Exchange Service-Europe, Pinder Barracks, Schwabacherster 20 8502 Zirndorf.

Categories of individuals covered by the system:

Employees of the Army and Air Force Exchange Service (AAFES).

Categories of records in the system:

Name, Social Security Number, organizational location, date of birth, medical data recorded by treating nurse/physician, information provided by individual’s personal physician regarding diagnosis, prognosis, and return to duty status, and similar relevant data.

Authority for maintenance of the system:

10 U.S.C. 3013, Secretary of the Army and 8013; Army Regulation 215-1, The Administration of Morale, Welfare, and Recreation Activities and Non-appropriated Fund Instrumentalities; and Army Regulation 60-21, Personnel Policies; and E.O. 9397 (SSN).

Purpose(s):

To provide health care and medical treatment to employees who become ill or are injured during working hours.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in locked file cabinets.

Retrievability:

By individual's surname.

Safeguards:

Records are maintained in the dispensary, available only to assigned medical personnel.

Retention and disposal:

Records are maintained for 6 years following termination of individual's employment; then destroyed by shredding.

System manager(s) and address:

Commander, Army and Air Force Exchange Service, 3911 S. Walton Walker Boulevard, Dallas, TX 75236-1598.

Notification procedure:

Individuals seeking to determine whether information about themselves is contained in this system should address written inquiries to the Commander, Army and Air Force Exchange Service, Attn: Director, Administrative Services, 3911 S. Walton Walker Boulevard, Dallas, TX 75236-1598.

Individual must furnish full name, details concerning injury or illness and date and location of such, and signature.

Record access procedures:

Individuals seeking access to information about themselves contained in this system should address written inquiries to the Commander, Army and Air Force Exchange Service, Attn: Director, Administrative Services, 3911 S. Walton Walker Boulevard, Dallas, TX 75236-1598.

Individual must furnish full name, details concerning injury or illness and date and location of such, and signature.

Contesting record procedures:

The Army's rules for accessing records and for contesting contents and appealing initial agency determinations are contained in Army Regulation 340-21; 32 CFR part 505; or may be obtained from the system manager.

Record source categories:

From the employee; his/her physician; witnesses to an injury/accident.

Exemptions claimed for the system:

None.

AAFES 0409.01

System name:

AAFES Accident/Incident Reports (August 9, 1996, 61 FR 41579).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

AAFES 0409.01

System name:

AAFES Accident/Incident Reports.

System location:

Safety and Security Offices of Headquarters, Army and Air Force Exchange Service, 3911 S. Walton Walker Boulevard, Dallas, TX 75236-1598;

Army and Air Force Exchange Service—Europe Region, Building 4001, In der Witz 14-18, 55252 Mainz-Kastel, Germany; Exchange Regions and Area Exchanges at posts, bases, and satellites world-wide. Official mailing addresses are published as an appendix to the Army’s compilation of systems of records notices.

Categories of individuals covered by the system:

Individuals involved in accidents, incidents, or mishaps resulting in theft or reportable damage to Army and Air Force Exchange Service (AAFES) property or facilities; individuals injured or become ill as a result of such accidents, incidents, or mishaps.

Categories of records in the system:

AAFES Accident Report, AAFES Incident Report, record of injuries and illnesses; physicians' reports; witness statements; investigatory reports; similar relevant documents.

Authority for maintenance of the system:

10 U.S.C. 3013, Secretary of the Army; Army Regulation 60-21, Personnel Policies; E.O. 12196, Occupational Safety and Health Programs for Federal Employees; and E.O. 9397 (SSN).

Purpose(s):

To record accidents, incidents, mishaps, fires, theft, etc., involving Government property; and personal injuries/illnesses in connection therewith, for the purposes of recouping damages, correcting deficiencies, initiating appropriate disciplinary action; filing of insurance and/or workmen's compensation claims therefore; and for managerial and statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Labor to support workmen's compensation claims.

The DoD “Blanket Routine Uses” set forth at the beginning of the Army's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By name of individual involved or injured and Social Security Number.

Safeguards:

Records are accessed only by designated individuals having official need therefore in the performance of their duties, within buildings protected by security guards.

Retention and disposal:

Paper records are retained for 2 years following which it is destroyed by shredding; information on microfiches is retained for 3 years; computer tapes reflecting historical data are permanent.

System manager(s) and address:

Commander, Army and Air Force Exchange Service, 3911 S. Walton Walker Boulevard, Dallas, TX 75236-1598.

Notification procedure:

Individuals seeking to determine whether information about themselves is contained in this system should address written inquiries to the Commander, Army and Air Force Exchange Service, Attn: Director, Loss Prevention Division, 3911 S. Walton Walker Boulevard, Dallas, TX 75236-1598.

Individual should provide their full name, present address and telephone number; sufficient details concerning the accident, mishap, or attendant injury to permit locating the record, and signature.

Record access procedures:

Individuals seeking access to information about themselves contained in this system should address written inquiries to the Commander, Army and Air Force Exchange Service, Attn: Director, Loss Prevention Division, 3911 S. Walton Walker Boulevard, Dallas, TX 75236-1598.

Individual should provide their full name, present address and telephone number; sufficient details concerning the accident, mishap, or attendant injury to permit locating the record, and signature.

Contesting record procedures:

The Army's rules for accessing records and for contesting contents and appealing initial agency determinations are contained in Army Regulation 340-21; 32 CFR part 505; or may be obtained from the system manager.

Record source categories:

From the individual; medical facilities; investigating official; State Bureau of Motor Vehicles, State and local law enforcement authorities; witnesses; victims; official Department of Defense records and reports.

Exemptions claimed for the system:

None.

A0027-20a DAJA

System name:

U.S. Army Claims Service Management Information System (February 22, 1993, 58 FR 10002).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0027-20a DAJA

System name:

U.S. Army Claims Service Management Information System.

System location:

U.S. Army Claims Service, Office of the Judge Advocate General, ATTN: JACS-Z, 4411 Llewellyn Avenue, Fort Meade, MD 20755-5360. Segments exist at subordinate field operating agencies and at Staff Judge Advocate Offices at Army installations throughout the world. Official mailing addresses are published as an appendix to the Army’s compilation of systems of records notices.

Categories of individuals covered by the system:

Individuals, corporations, associations, countries, states, territories, political subdivisions presenting a claim against the United States.

Categories of records in the system:

Name of claimant, claim file number, type of claim presented, reports of investigation, witness statements, police reports, photographs, diagrams, bills, estimates, expert opinions, medical records and similar reports, copy of correspondence with claimant, potential claimants, third parties, and insurers of claimants or third parties, copies of finance vouchers evidencing payment of claims, and similar relevant information.

Authority for maintenance of the system:

10 U.S.C. 3013, Secretary of the Army; 31 U.S.C. 3711, Collection and Compromise; Army Regulation 27-20, Claims; and E.O. 9397 (SSN).

Purpose(s):

To develop and preserve all relevant evidence about incidents, which generate claims against or in favor of the Army. Evidence developed is used as a legal basis to support the settlement of claims. Data are also used as a management tool to supervise claims operations at subordinate commands worldwide.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Internal Revenue Service for tax purposes.

To the Department of Justice for assistance in deciding disposition of claims filed against or in favor of the Government and for considering criminal prosecution, civil court action or regulatory orders.

To the U.S. Claims Court and the Court of Appeals for the Federal Circuit, to support legal actions, considerations or evidence to support proposed legislative or regulatory changes, for budgetary purposes, for quality control or assurance type studies, or to support action against a third party.

To Foreign governments for use in settlements of claims under the North Atlantic Treaty Organization Status of Forces Agreement or similar international agreements.

To the State governments for use in defending or prosecuting claim by the state or its representatives.

To the Department of Labor, for consideration in determining rights under Federal Employees Compensation Act or similar legislation.

To civilian and Government experts for assistance in evaluating the claim.

To the Office of Management and Budget for preparation of private relief bills for presentation to the Congress.

To Government contractors for use in defending or settling claims filed against them, including recovery actions, arising out of the performance of a Government contract.

To Federal and state workmen's compensation agencies for use in adjudicating claims.

To private insurers with a legal interest in the same case.

To potential joint tort-feasors or their representatives for the purpose of prosecuting or defending claims for contribution or indemnity.

Information from this system of records may also be disclosed to law students participating in a volunteer legal support program approved by the Judge Advocate General of the Army.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By last name, Social Security Number, or claim number.

Safeguards:

Records are accessible only by authorized personnel who are properly instructed in the permissible use of the information, buildings housing records are locked after normal business hours.

Retention and disposal:

Destroyed when no longer needed (claims reports); after 5 years (claims journals); after 6 years, 3 months (investigative reports, except those relating to medical malpractice); or 10 years (medical malpractice investigative reports, claims files).

System manager(s) and address:

The Judge Advocate General, Headquarters, Department of the Army, 2200 Army Pentagon, Washington, DC 20310-2200.

Notification procedure:

Individuals seeking to determine whether information about themselves is contained in this record system should address written inquiries to the Commander, U.S. Army Claims Service, 4411 Llewellyn Avenue, Fort Meade, MD 20755-5360.

Individual should provide full name, current address and telephone number, claim number if known, date and place of incident giving rise to the claim, and any other personal identifying data that would assist in determining location of the records.

Record access procedures:

Individuals seeking access to information about themselves contained in this system should address written inquiries to the Commander, U.S. Army Claims Service, 4411 Llewellyn Avenue, Fort Meade, MD 20755-5360.

Individual should provide full name, current address and telephone number, claim number if known, date and place of incident giving rise to the claim, and any other personal identifying data that would assist in determining location of the records.

Contesting record procedures:

The Army's rules for accessing records contesting contents, and appealing initial agency determinations are contained in Army Regulation 340-21; 32 CFR part 505; or may be obtained from the system manager.

Record source categories:

From the individual; investigative reports originating in the Department of the Army, Federal Bureau of Investigation, and/or foreign, state, or local law enforcement agencies; medical treatment facilities; Armed Forces Institute of Pathology; relevant records and reports in the Department of Defense.

Exemptions claimed for the system:

None.

A0040-5a DASG

System name

DoD Health Surveillance/Assessment Registries (August 5, 2002, 67 FR 50655).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-5a DASG

System name:

DoD Health Surveillance/Assessment Registries.

System location:

U.S. Army Center for Health Promotion and Prevention Medicine, 5158 Blackhawk Road, Aberdeen Proving Ground, MD 21010-5403; and Army Medical Surveillance Activity, Building T-20, Room 213, 6900 Georgia Avenue, NW., Washington, DC 20307-5001.

Categories of individuals covered by the system:

Any individual that participates in a DoD health survey.

Categories of records in the system:

Information in this system of records originates from health surveys/assessments (e.g., Pentagon Post Disaster Health Assessment) conducted by or for the Department of Defense. Records being maintained include individual’s name, Social Security Number, date of birth, sex, branch of service, home address, age, medical treatment facility, condition of medical and physical health and capabilities, responses to survey questions, register number assigned, and similar records, information and reports, relevant to the various registries, (e.g., cancer, Human Immunodeficiency Virus (HIV), serum repository).

Authority for maintenance of the system:

5 U.S.C. 301, Departmental Regulations; 10 U.S.C. 136, Under Secretary of Defense for Personnel and Readiness; 10 U.S.C. 3013, Secretary of the Army, 10 U.S.C. 8013, Secretary of the Air Force, 10 U.S.C. 5013, Secretary of the Navy; DoD Instruction 1100.13, Surveys of DoD Personnel; DoD Directive 6490.2, Joint Medical Surveillance; DoD Directive 6490.3, Implementation and Application of Joint Medical Surveillance for Deployments; and E.O. 9397 (SSN).

Purpose(s):

To record, store and document injury, illness and exposure to chemical/biochemical elements, and collect data for statistical purposes. To enhance efficient management practices and effective analysis and comparisons of statistical data utilized in the public health assessment data registry.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Information is retrieved by individual's name, Social Security Number, and registry number.

Safeguards:

Records are maintained within secured buildings in areas accessible only to persons having official need, and who therefore are properly trained and screened. Automated segments are protected by controlled system passwords governing access to data.

Retention and disposal:

Records are destroyed when no longer needed for reference and for conducting business.

System manager(s) and address:

Commander, U.S. Army Center for Health Promotion and Prevention Medicine, 5158 Blackhawk Road, Aberdeen Proving Ground, MD 21010-5403.

Notification procedure:

Individuals seeking to determine whether information about themselves is contained in this system should address written inquiries to the Commander, U.S. Army Center for Health Promotion and Prevention Medicine, 5158 Blackhawk Road, Aberdeen Proving Ground, MD 21010-5403.

For verification purposes, individual should provide the full name, Social Security Number, details which will assist in locating record, and signature.

Record access procedures:

Individuals seeking access to information about themselves contained in this system should address written inquiries to the Commander, U.S. Army Center for Health Promotion and Prevention Medicine, 5158 Blackhawk Road, Aberdeen Proving Ground, MD 21010-5403.

For verification purposes, individual should provide the full name, Social Security Number, details which will assist in locating record, and signature.

Contesting record procedures:

The Army's rules for accessing records, and for contesting contents and appealing initial agency determinations are contained in Army Regulation 340-21; 32 CFR part 505; or may be obtained from the system manager.

Record source categories:

From the individual and mortality reports.

Exemptions claimed for the system:

None.

A0040-31b DASG

System name:

Research and Experimental Case Files (August 7, 1997, 62 FR 42530).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-31b DASG

System name:

Research and Experimental Case Files.

System location:

U.S. Army Medical Research Institute of Chemical Defense, Aberdeen Proving Ground, MD 21010-5425.

System location:

Individual research/test/medical documents (paper records) are contained in individual’s health record which, for reserve and retired military members, is at the U.S. Army Reserve Components Personnel and Administration Center, St. Louis, MO; for other separated military members, is at the National Personnel Records Center, 9700 Page Boulevard, St. Louis, MO 63132-5200; for military members on active duty, is at the servicing medical facility/center; for civilians (both Federal employees and prisoners) is in a special file at the National Personnel Records Center.

As paper records are converted to microfiche, the original (silver halide) and 1 copy of the microfiche will be located at the Washington National Records Center; 1 copy will be located at Chief Information Officer, Office of the Surgeon General, U.S. Army Medical Command, Attn: MCIM, 2050 Worth Road, Suite 13, Fort Sam Houston, TX 78234-6013; 1 copy will reside with the Army contractor—the National Academy of Sciences; and 1 copy retained at the U.S. Army Medical Research Institute of Chemical Defense.

Categories of individuals covered by the system:

Volunteers (military members, Federal civilian employees, state prisoners) who participated in Army tests of potential chemical agents and/or antidotes from the early 1950's until the program ended in 1975.

Categories of records in the system:

Individual pre-test physical examination records and test records of performance and biomedical parameters measured during and after test exposure.

Authority for maintenance of the system:

10 U.S.C. 3013, Secretary of the Army; Army Regulation 40-31, Armed Forces Institute of Pathology and Armed Forces Histopathology Centers; and E.O. 9397 (SSN).

Purpose(s):

To follow up on individuals who voluntarily participated in Army chemical/biological agent research projects for the purpose of assessing risks/hazards to them, and for retrospective medical/scientific evaluation and future scientific and legal significance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Veterans Affairs in connection with benefits determinations.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in individual's medical file folders and electronic storage media.

Retrievability:

Paper records in individual's health record are retrieved by surname and/or service number/Social Security Number. Microfiche are retrieved by individual's surname.

Safeguards:

Records are maintained in secured areas accessible only to authorized individuals having official need therefore in the performance of assigned duties.

Retention and disposal:

Paper medical records in an individual's health record are retained permanently.

System manager(s) and address:

Chief Information Officer, Office of the Surgeon General, U.S. Army Medical Command, Attn: MCIM, 2050 Worth Road, Suite 13, Fort Sam Houston, TX 78234-6013.

Notification procedure:

Individuals seeking to determine whether information about themselves is contained in this system should address written inquiries to the Commander, U.S. Army Medical Research Institute of Chemical Defense, Aberdeen Proving Ground, MD 21010-5400.

Individual should provide full name, Social Security Number, current address and telephone number of the requester.

For personal visits, the individual should be able to provide acceptable identification such as valid driver's license, employer or other individually identifying number, building pass, etc.

Record access procedures:

Individuals seeking access to information about themselves contained in this system should address written inquiries to the Commander, U.S. Army Medical Research Institute of Chemical Defense, Aberdeen Proving Ground, MD 21010-5400.

Individual should provide full name, Social Security Number, current address and telephone number of the requester.

For personal visits, the individual should be able to provide acceptable identification such as valid driver's license, employer or other individually identifying number, building pass, etc.

Contesting record procedures:

The Army's rules for accessing records, and for contesting contents and appealing initial agency determinations are contained in Army Regulation 340-21; 32 CFR part 505; or may be obtained from the system manager.

Record source categories:

From the individual through test/questionnaire forms completed at test location; from medical authorities/sources by evaluation of data collected previous to, during, and following tests while individual was in this research program.

Exemptions claimed for the system:

None.

A0040-66b DASG

System name:

Health Care and Medical Treatment Record System (April 13, 2001, 66 FR 19151).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0040-66b DASG

System name:

Health Care and Medical Treatment Record System.

System location:

Army Medical Department facilities and activities. Official mailing addresses are published as an appendix to the Army’s compilation of record systems notices.

Categories of individuals covered by the system:

Military members of the Armed Forces (both active and inactive); family members; civilian employees of the Department of Defense; members of the U.S. Coast Guard, Public Health Service, and National Oceanic and Atmospheric Agency; cadets and midshipmen of the military academies; employees of the American National Red Cross; and other categories of individuals who receive medical treatment at Army Medical Department facilities/activities.

Categories of records in the system:

Medical records (of a permanent nature) used to document health; psychological and mental hygiene consultation and evaluation; medical/dental care and treatment for any health or medical condition provided an eligible individual on an inpatient and/or outpatient status to include but not limited to: health; clinical (inpatient); outpatient; dental; consultation; and procurement and separation x-ray record files; and Human Immunodeficiency Virus (HIV) blood sampling results to identify Acquired Immune Deficiency Syndrome (AIDS); and Psychological Assessment and Selection Case records.

Subsidiary medical records (of a temporary nature) are also maintained to support records relating to treatment/observation of individuals. Such records include but are not limited to: Social work case files, inquiries/complaints about medical treatment or services rendered by the medical treatment facility, and patient treatment x-ray and index files.

Authority for maintenance of the system:

10 U.S.C. 3013, Secretary of the Army; 10 U.S.C. 1071-1085, Medical and Dental Care; 50 U.S.C. Supplement IV, Appendix 454, as amended, Persons liable for training and service; 42 U.S.C. Chapter 117, Sections 11131-11152, Reporting of Information; 10 U.S.C. 1097a and 1097b TRICARE Prime and TRICARE Program; 10 U.S.C. 1079, Contracts for Medical Care for Spouses and Children; 10 U.S.C. 1079a, CHAMPUS; 10 U.S.C. 1086, Contracts for Health Benefits for Certain Members, Former Members, and Their Dependents; E.O. 9397 (SSN); DoD Instruction 6015.23, Delivery of Healthcare at Military Treatment Facilities (MTFs); DoD Directive 6040.37, Confidentiality of Medical Quality Assurance (QA) Records; DoD 6010.8-R, Civilian Health and Medical Program of the Uniformed Services (CHAMPUS); Army Regulation 40-66, Medical Record Administration and Health Care Documentation.

Purpose(s):

To provide health care and medical treatment of individuals; to establish tuberculosis/tumor/cancer/Human Immunodeficiency Virus (HIV) registries; for research studies; compilation of statistical data and management reports; to implement preventive medicine, dentistry, and communicable disease control programs; to adjudicate claims and determine benefits; to evaluate care rendered; determine professional certification and hospital accreditation; and determine medical and psychological suitability of persons for service or assignment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Veterans Affairs to adjudicate veterans' claims and provide medical care to Army members.

National Research Council, National Academy of Sciences, National Institutes of Health, Armed Forces Institute of Pathology, and similar institutions for authorized health research in the interest of the Federal Government and the public. When not essential for longitudinal studies, patient identification data shall be eliminated from records used for research studies. Facilities/activities releasing such records shall maintain a list of all such research organizations and an accounting disclosure of records released thereto.

To local and state government and agencies for compliance with local laws and regulations governing control of communicable diseases, preventive medicine and safety, child abuse, and other public health and welfare programs.

Third party payers per 10 U.S.C. 1095 as amended by Pub. L. 99-272, and guidance provided to the DoD health services by DoD Instruction 6015.23, for the purpose of collecting reasonable inpatient/outpatient hospital care costs incurred on behalf of retirees or dependents.

To former DoD health care providers, who have been identified as being the subjects of potential reports to the National Practitioner Data Bank as a result of a payment having been made on their behalf by the U.S. Government in response to a malpractice claim or litigation, for purposes of providing the provider an opportunity, consistent with the requirements of DoD Instruction 6025.15 and Army Regulation 40-68, to provide any pertinent information and to comment on expert opinions, relating to the claim for which payment has been made.

The DoD “Blanket Routine Uses” set forth at the beginning of the Army's compilation of systems of records notices also apply to this system.

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974 in regard to accessibility of such records except to the individual to whom the record pertains. The DoD “Blanket Routine Uses” do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders; x-ray film preservers; and electronic storage media.

Retrievability:

By patient or sponsor's surname or by sponsor's Social Security Number.

Safeguards:

Records are maintained in buildings that employ security guards and are accessed only by authorized personnel having an official need-to-know. Automated segments are protected by controlled system passwords governing access to data.

Retention and disposal:

Military health/dental and procurement/separation x-ray records are permanent. Clinical (inpatient), outpatient, dental and consultation record files for military members are destroyed after 50-75 years.

All records (except the Military Health/Dental records) which are active while individual is on active duty, then retired with individual's Military Personnel Records Jacket and the procurement/separation x-ray records which are forwarded to the National Personnel Records Center on an accumulation basis) are retained in an active file while treatment is provided and subsequently held for a period of 1 to 5 years following treatment before being retired to the National Personnel Records Center. Subsidiary medical records, of a temporary nature, are normally not retained long beyond termination of treatment; however, supporting documents determined to have significant documentation value to patient care and treatment are incorporated into the appropriate permanent record file. Until the National Archives and Records Administration approves the disposition of Psychological Assessment and Selection Case records, treat as permanent.

System manager(s) and address:

Commander, U.S. Army Medical Command, Suite 13, 2050 Worth Road, Fort Sam Houston, TX 78234-6010.

Notification procedure:

Individuals seeking to determine whether information about themselves is contained in this system should address written inquiries to the medical facility where treatment was provided. Official mailing addresses are published as an appendix to the Army's compilation of record systems notices.

Red Cross employees may write to the Medical Officer, American National Red Cross, 1730 E Street, NW., Washington, DC 20006. For verification purposes, the individual should provide the full name, Social Security Number of sponsor, and current address and telephone number. Inquiry should include name of the hospital, year of treatment and any details that will assist in locating the records.

Record access procedures:

Individuals seeking access to information about themselves contained in this system should address written inquiries to the medical facility where treatment was provided. Official mailing addresses are published as an appendix to the Army's compilation of record systems notices.

Red Cross employees may write to the Medical Officer, American National Red Cross, 1730 E Street, NW., Washington, DC 20006. For verification purposes, the individual should provide the full name, Social Security Number of sponsor, and current address and telephone number. Inquiry should include name of the hospital, year of treatment and any details that will assist in locating the records.

Contesting record procedures:

The Army's rules for accessing records, and for contesting contents and appealing initial agency determinations are contained in Army Regulation 340-21; 32 CFR part 505; or may be obtained from the system manager.

Record source categories:

Subject individual, personal interviews and history statements from the individuals; abstracts or copies of pertinent medical records; examination records of intelligence, personality, achievement, and aptitude; reports from attending and previous physicians and other medical personnel regarding results of physical, dental, and mental examinations, treatment, evaluation, consultation, laboratory, x-ray and special studies and research conducted to provide health care and medical treatment; and similar or related documents.

Exemptions claimed for the system:

None.

A0070-45 DASG

System name:

Medical Scientific Research Data Files (December 1, 2000, 65 FR 75249).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0070-45 DASG

System name:

Medical Scientific Research Data Files.

System location:

Primary locations: U.S. Army Medical Research and Development Command, 504 Scott Street, Fort Detrick, MD 21701-5009. U.S. Army Chemical Research, Development, and Engineering Center, Aberdeen Proving Ground, MD 21010-5423;

Secondary locations: Letterman Army Institute of Research, Presidio of San Francisco, CA 94129-6800;

Walter Reed Army Institute of Research, Washington, DC 20307-5104;

U.S. Army Aeromedical Research Laboratory, Fort Rucker, AL 36362-5000;

U.S. Army Institute of Dental Research, Washington, DC 20307-5300;

U.S. Army Institute of Dental Research, Fort Sam Houston, TX 78234-6200;

U.S. Army Medical Bioengineering Research and Development Laboratory, Fort Detrick, MD 21701-5010;

U.S. Army Medical Research Institute of Chemical Defense, Aberdeen Proving Ground, MD 21010-5425;

U.S. Army Medical Research Institute of Infectious Diseases, 1425 Porter Street, Fort Detrick, MD 21702-5011;

U.S. Army Research Institute of Environmental Medicine, Natick, MA 01760-5007; and

U.S. Army Research Institute of Infectious Diseases, 1425 Porter Street, Fort Detrick, MD 21702-5011.

Categories of individuals covered by the system:

Volunteers who participate in the Sandfly Fever (Clinical Research Data) studies at the U.S. Army Medical Research Institute of Infectious Diseases; individuals who participate in research sponsored by the U.S. Army Medical Research and Development Command and the U.S. Army Chemical Research, Developments, and Engineering Center; and individuals at Fort Detrick who have been immunized with a biological product or who fall under the Occupational Health and Safety Act or Radiologic Safety Program.

Categories of records in the system:

Participant’s name, Social Security Number, age, race, date of birth, occupation, titers, body temperature, pulse, blood pressure, respiration, urinalysis, immunization, schedules, blood serology, amount of dosage, reaction to immunization radiologic agents, exposure level, health screening result, health test schedule, test protocols, challenge materials, inspection, after action reports, medical support plans, summaries of pre and post test physical exams parameter and other related documents.

Authority for maintenance of the system:

10 U.S.C. 3013, Secretary of the Army; 10 U.S.C., Chapter 55, Medical and Dental Care; Army Regulation 70-25, Use of Volunteers as Subjects of Research; Army Regulation 70-45, Scientific and Technical Information Program; Occupational Safety and Health Administration Act of 1970; and E.O. 9397 (SSN).

Purpose(s):

To create a database of immunological or vaccinal data for research purposes.

To answer inquiries and provide data on health issues of individuals who participated in research conducted or sponsored by U.S. Army Medical Research Institute of Infectious Diseases, U.S. Army Medical Research and Development Command, and U.S. Army Chemical Research, Development, and Engineering Center.

To provide individual participants with newly acquired information that may impact their health.

To maintain and manage scheduling of health screening tests immunizations, physicals, safety and immunogenicity and other special procedures for a given vaccine or biosurveillance program, radiologic safety program and occupational health safety program.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veteran Affairs to assist in making determinations relative to claims for service connected disabilities; and other such benefits.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file cabinets and automated computer systems that are backed up daily.

Retrievability:

By individual's name and Social Security Number.

Safeguards:

Computerized and paper records are maintained in controlled areas. Access is restricted to authorized personnel only.

Retention and disposal:

Special Immunization System Records are permanent; Research Volunteer Registry records are maintained for 65 years then destroyed; and Clinical Research Data records are maintained until they have no further research value then destroyed.

Systems manager(s) and address:

Commander, U.S. Army Medical Research Institute of Infectious Diseases, 1425 Porter Street, Fort Detrick, MD 21702-5011 for special immunization records.

Office of The Surgeon General, Headquarters, Department of Army, 5109 Leesburg Pike, Falls Church, VA 22041-3258 for all other records maintained in this system of records.

Notification Procedures:

Individuals seeking to determine whether information about themselves is contained in this system of records should address written inquiries to the appropriate system manager.

For verification purposes the individual should provide full name, Social Security Number, military status or other information verifiable from the record itself.

For personal visits, the individual should be able to provide acceptable identification such as valid driver's license, employer, or other individually identifying number, and building pass.

Individual should provide his/her full name, address and telephone number, Social Security Number, date of birth, and any other personal data which would assist in identifying records pertaining to him/her.

Record source categories:

From quantitative data obtained from investigative staff, research/test results, individuals concerned, interviews, clinical laboratory results/reports, immunization results, records and other relevant tests.

Contesting record procedures:

The Army's rules for accessing records, and for contesting contents and appealing initial determinations are contained in Army Regulation 340-21; 32 CFR part 505; or may be obtained from the system manager.

Record source categories:

From quantitative data obtained from investigative staff and clinical laboratory reports.

Exemptions claimed for the system:

None.

A0351 DASG

System name:

Army School Student Files: Physical Therapy Program (March 23, 1999, 64 FR 13972).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0351 DASG

System name:

Army School Student Files: Physical Therapy Program.

System location:

Commandant, Academy of Health Services, Physical Therapy Branch, 3151 Scott Road, Suite 1230, Fort Sam Houston, TX 78234-6138.

Categories of individuals covered by the system:

Graduates of the U.S. Army Physical Therapy Program since 1928.

Categories of records in the system:

Academic grades only on graduates from 1973 to present. Academic grades and varying amounts and types of anecdotal information on performance: 1945-1972.

Authority for maintenance of the system:

10 U.S.C. 3013, Secretary of the Army and Army Regulation 40-1, Composition, Mission, and Functions of the Army Medical Department.

Purpose(s):

To provide certification of graduation from an approved physical therapy program to the individual graduate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders:

Retrievability:

By last name of graduate.

Safeguards:

Records are in closed files, accessible only to designated officials having need therefore in the performance of their duties.

Retention and disposal:

Records are permanent.

System manager(s) and address:

Commandant, Academy of Health Services, Physical Therapy Branch, 3151 Scott Road, Suite 1230, Fort Sam Houston, TX 78234-6138.

Notification procedure:

Individuals seeking to determine whether information about themselves is contained in this system should address written inquiries to the Commandant, Academy of Health Services, Physical Therapy Branch, Attn: MCCS HMT, 3151 Scott Road, Suite 1230, Fort Sam Houston, TX 78234-6138.

For verification purposes, the individual should provide the full name, maiden name if married, year of graduation, current address, institution and complete address to which transcript is to be mailed if other than that of individual concerned.

Record access procedures:

Individuals seeking access to information about themselves contained in this system should address written inquiries to the Commandant, Academy of Health Services, Physical Therapy Branch, Attn: MCCS HMT, 3151 Scott Road, Suite 1230, Fort Sam Houston, TX 78234-6138.

For verification purposes, the individual should provide the full name, maiden name if married, year of graduation, current address, institution and complete address to which transcript is to be mailed if other than that of individual concerned.

Contesting record procedures:

The Army's rules for accessing records, and for contesting contents and appealing initial agency determinations are contained in Army Regulation 340-21; 32 CFR part 505; or may be obtained from the system manager.

Record source categories:

Staff and faculty of appropriate school and/or training hospital responsible for presentation of instruction.

Exemptions claimed for the system:

None.

A0351a DASG

System name:

U.S. Army Medical Department School and Academy of Health Sciences Academic Records (August 12, 2002, 67 FR 52456).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0351a DASG

System name:

U.S. Army Medical Department School and Academy of Health Sciences Academic Records.

System location:

U.S. Army Medical Department Center and School, Academy of Health Sciences, Department of Academic Support, 2250 Stanley Road, Fort Sam Houston, TX 78234-6100.

Categories of individuals covered by the system:

Resident and correspondence students enrolled in courses at the Academy.

Categories of records in the system:

Student’s name, Social Security Number, grade/rank, academic qualifications, progress reports, academic grades, ratings attained, aptitudes and personal qualities, including corporate fitness results; faculty board records pertaining to class standing/rating/classification/proficiency of students; class academic records maintained by instructors indicating attendance and progress of class members.

Authority for maintenance of the system:

10 U.S.C. 3013, Secretary of the Army; Army Regulation 351-3, Professional Education and Training Programs of the Army Medical Department; and E.O. 9397 (SSN).

Purpose(s):

To determine eligibility for enrollment/attendance, monitor student progress, record accomplishments, and serve as record of courses which may be prerequisite for other formal courses of instruction, licensure, certification, and employment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to civilian medical institutions for the purpose of accrediting the individual's training and instruction.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records, microfiche, cards, magnetic tape and/or disc, and computer printouts.

Retrievability:

By individual's name and Social Security Number.

Safeguards:

Access to all records is restricted to designated individuals whose official duties dictate the need therefore.

Retention and disposal:

Academic records are maintained 40 years at the Academy of Health Sciences. Except for the master file, automated data are erased after the fourth updating cycle.

System manager(s) and address:

Registrar, Academy of Health Sciences, 2250 Stanley Road, Fort Sam Houston, TX 78234-6000.

Notification procedure:

Individuals seeking to determine whether information about themselves is contained in this system should address written inquiries to the Registrar, Academy of Health Sciences, 2250 Stanley Road, Fort Sam Houston, TX 78234-6000.

For verification purposes, individual should provide the full name, Social Security Number, date attended/enrolled, current address, and signature.

Record access procedures:

Individuals seeking access to information about themselves contained in this system should address written inquiries to the Registrar, Academy of Health Sciences, 2250 Stanley Road, Fort Sam Houston, TX 78234-6000.

For verification purposes, individual should provide the full name, Social Security Number, date attended/enrolled, current address, and signature.

Contesting record procedures:

The Army's rules for accessing records, and for contesting contents and appealing initial agency determinations are contained in Army Regulation 340-21; 32 CFR part 505; or may be obtained from the system manager.

Record source categories:

From the individual and Academy of Health Sciences' staff and faculty.

Exemptions claimed for the system:

None.

A0600-8-1b TAPC

System name:

Line of Duty Investigations (March 13, 2001, 66 FR 14559).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0600-8-1b TAPC

System name:

Line of Duty Investigations (March 13, 2001, 66 FR 14559).

System location:

Personnel Plans and Actions Branch, Personnel Service Center at Army Installations; Army Enlisted Records and Evaluation Center, Fort Benjamin Harrison, IN 46249-0601; U.S. Total Army Personnel Command, Alexandria, VA 22332-0400; U.S. Army Reserve Personnel Center, 9700 Page Avenue, St. Louis, MO 63132-5200; National Personnel Records Center (Military), 9700 Page Avenue, St. Louis, MO 63132-5200; National Guard Bureau, 5109 Leesburg Pike, Falls Church, VA 22041-3258; and Regional Support Centers for U.S. Army Reserve. Official mailing addresses are published as an appendix to the Army’s compilation of record systems notices.

Categories of individuals covered by the system:

Active duty, Reserve and National Guard members who have been injured, diseased or deceased and who are in a duty status.

Categories of records in the system:

Statement of Medical Examination and Duty Status; Report of Investigation-Line of Duty and Misconduct Status; approval/disapproval authority memoranda, and other relevant supporting documents such as military police reports, accident reports, witness statements, and appointment instruments, and action on appeals.

Authority for maintenance of the system:

10 U.S.C. 972, Members: Effect of time lost; 10 U.S.C. 1204, Members, on Active Duty for 30 days or less or on inactive duty training: retirement; 10 U.S.C. 1207, Disability from intentional misconduct of willful neglect: separation; 10 U.S.C. 3013, Secretary of the Army; 37 U.S.C. 802, Forfeiture of pay during absence from duty due to disease from intemperate use of alcohol or drugs; Army Regulation 600-8-1, Army Casualty Operation/Assistance/Insurance; and E.O. 9397 (SSN).

Purpose(s):

To review facts and circumstances of service member's death, injury or disease and render decisions having the effect of approving/denying certain military benefits, pay and allowances.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be provided to the Department of Veterans Affairs for the purpose of determining the service member's entitlement to benefits.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders, microfiche and electronic storage media.

Retrievability:

By Social Security Number and by service member's surname.

Safeguards:

Paper records in file folders are maintained in file cabinets accessible only to authorized personnel in the performance of their duties. Electronic storage media accessible to authorized personnel with password capability.

Retention and disposal:

Documents related to determining line of duty status and incident investigation concerning individual Army members are maintained for 5 years then destroyed.

System manager(s) and address:

Commander, U.S. Total Army Personnel Command, 200 Stovall Street, Alexandria, VA 22332-0400.

Notification procedure:

Individuals seeking to determine if information about themselves is contained in this record system should address written inquiries to the Commander, U.S. Army Enlisted Records and Evaluation Center, Fort Benjamin Harrison, IN 46249-0601 (For enlisted personnel on active duty); Commander, U.S. Total Army Personnel Command, Alexandria, VA 22332-0400 (For officers on active duty); Commander, U.S. Army Reserve Personnel Center, 9700 Page Avenue, St. Louis, MO 63132-5200 (For Army reserve personnel); National Personnel Records Center (Military), 9700 Page Avenue, St. Louis, MO 63132-5200 (For separated enlisted and officer personnel); National Guard Bureau, 5109 Leesburg Pike, Falls Church, VA 22041-3258 (For full-time National Guard Duty under 32 U.S.C., those in federalized status, or those attending active Army service school).

Individuals should provide the full name, Social Security Number, present address, and signature.

Record access procedures:

Individuals seeking access to records about themselves contained in this record system should address written inquiries to the Commander, U.S. Army Enlisted Records and Evaluation Center, Fort Benjamin Harrison, IN 46249-0601 (For enlisted personnel on active duty); Commander, U.S. Total Army Personnel Command, Alexandria, VA 22332-0400 (For officers on active duty); Commander, U.S. Army Reserve Personnel Center, 9700 Page Avenue, St. Louis, MO 63132-5200 (For Army reserve personnel); National Personnel Records Center (Military), 9700 Page Avenue, St. Louis, MO 63132-5200 (For separated enlisted and officer personnel); National Guard Bureau, 5109 Leesburg Pike, Falls Church, VA 22041-3258 (For full-time National Guard Duty under 32 U.S.C., those in federalized status, or those attending active Army service school).

Individuals should provide the full name, Social Security Number, present address, and signature.

Contesting record procedures:

The Army's rules for accessing records, and for contesting contents and appealing initial agency determinations are contained in Army Regulation 340-21; 32 CFR part 505; or may be obtained from the system manager.

Appeals of determinations by authority of the Secretary of the Army are governed by AR 600-8-1, Army Casualty and Memorial Affairs and Line of Duty Investigations; collateral review of decided cases is limited to questions of completeness of the records of such determinations.

Record source categories:

From the individual, medical records, service member's commander, official Army records and reports, witness statements, civilian and military law enforcement agencies.

Exemptions claimed for the system:

None.

A0600-85 DAPE

System name:

Army Substance Abuse Program (July 31, 2002, 67 FR 49678).

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0600-85 DAPE

System name:

Alcohol and Drug Abuse Rehabilitation Files.

System location:

Primary location: Army Substance Abuse Program (ASAP) rehabilitation/counseling facilities (e.g., Community Counseling Center/ASAP Counseling Facilities) at Army installations and activities. Official mailing addresses are published as an appendix to the Army’s compilation of record system notices. Secondary location: Army Center for Substance Abuse Program, ATTN: PEDA, Suite 320, 4501 Ford Avenue, Alexandria, VA 22302-1460.

Categories of individuals covered by the system:

Eligible military members, civilians employees, family members of military members and retirees who are screened and/or enrolled in the Army Substance Abuse Program (ASAP), federal civilians in testing designated positions.

Categories of records in the system:

Primary location: Copies of patient intake records, progress reports, psychosocial histories, counselor observations and impressions of patient's behavior and rehabilitation progress, copies of medical consultation and laboratory procedures performed, results of biochemical urinalysis for alcohol/drug abuse, Patient Intake/Screening record-PIR (DA Form 4465-R); Patient Progress Report-PPR (DA Form 4466-R); Resource and Performance Report (DA Form 3711-R); and Specimen Custody Document-Drug Testing (DD Form 2624), and similar or related documents.

Secondary location: Copies of Patient Intake/Screening record-PIR (DA Form 4465-R); Patient Progress Report-PPR (DA Form 4466-R); Resource and Performance Report (DA Form 3711-R); and Specimen Custody Document-Drug Testing (DD Form 2624), and demographic composites thereof.

Authority for maintenance of the system:

10 U.S.C. 3013, Secretary of the Army; 42 U.S.C. 290dd-2; Federal Drug Free Workplace Act of 1988; Army Regulation 600-85, Army Substance Abuse Program; and E.O. 9397 (SSN).

Purpose(s):

To identify alcohol and drug abusers within the Army; to treat, counsel, and rehabilitate individuals who participate in the Army Substance Abuse Program; to judge the magnitude of drug and alcohol abuse in the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices do not apply to this system.

The Patient Administration Division at the medical treatment facility with jurisdiction is responsible for the release of medical information to malpractice insurers in the event of malpractice litigation or prospect thereof.

Information is disclosed only to the following persons/agencies:

To health care components of the Department of Veterans Affairs furnishing health care to veterans.

To medical personnel to the extent necessary to meet a bona fide medical emergency.

To qualified personnel conducting scientific research, audits, or program evaluations, provided that a patient may not be identified in such reports, or his or her identity further disclosed by such personnel.

In response to a court order based on the showing of good cause in which the need for disclosure and the public's interest is shown to exceed the potential harm that would be incurred by the patient, the physician-patient relationship, and the Army's treatment program. Except as authorized by a court order, no record may be used to initiate or substantiate any criminal charges against a patient or to conduct any investigation of a patient.

Note: Records of identity, diagnosis, prognosis, or treatment of any client/patient, irrespective of whether or when he/she ceases to be a client/patient, maintained in connection with the performance of any alcohol or drug abuse prevention and treatment function conducted, requested, or directly or indirectly assisted by any department or agency of the United States, shall, except as provided therein, be confidential and be disclosed only for the purposes and under circumstances expressly authorized in 42 U.S.C. 290dd-2. This statute takes precedence over the Privacy Act of 1974 to the extent that disclosure is more limited. However, access to the record by the individual to whom the record pertains is governed by the Privacy Act.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in locked metal containers; computer database; computer magnetic discs/tapes.

Retrievability:

By patient's surname; Social Security Number or other individually identifying characteristics.

Safeguards:

Records are maintained in storage areas in locked file cabinets where access is restricted to authorized persons having an official need-to-know.

Retention and disposal:

Primary location: Records are destroyed 5 years after termination of the patient's treatment, unless the Army Medical Department Activity/Facility commander authorizes retention for an additional 6 months.

Secondary location: Manual records are retained up to 18 months or until information taken there from and entered into computer records is transferred to the “history” file, whichever is sooner. Disposal of manual records is by burning or shredding. Computer records are retained permanently for historical and/or research purposes.

System manager(s) and address:

Deputy Chief of Staff for Personnel, Headquarters, Department of the Army (DAPE-HR-PR), 300 Army Pentagon, Washington, DC 20320-3000.

Notification procedure:

Individuals seeking to determine if information about themselves is contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number, date of birth, current address and telephone number, and signature.

Record access procedures:

Individuals seeking access to records about themselves contained in this record system should address written inquiries to either the commander of the medical center/medical department activity where treatment was obtained or the Army Center for Substance Abuse Programs, 4501 Ford Avenue, Suite 320, Alexandria, VA 22302-1460. Official mailing addresses are published as an appendix to the Army's compilation of record system notices.

Individual should provide the full name, Social Security Number, date of birth, current address and telephone number, and signature.

Contesting record procedures:

The Army's rules for accessing records, and for contesting contents and appealing initial agency determinations are contained in Army Regulation 340-21; 32 CFR part 505; or may be obtained from the system manager.

Denial to amend records in this system can be made only by the Deputy Chief of Staff for Personnel in coordination with The Surgeon General.

Record source categories:

From the individual by interviews and history statement; abstracts or copies of pertinent medical records; abstracts from personnel records; results of tests; physicians' notes, observations of client's behavior; related notes, papers, and forms from counselor, clinical director, and/or commander.

Exemptions claimed for the system:

None.

A0601-141 DASG

System name:

Applications for Appointment to Army Medical Department (December 4, 2001, 66 FR 63048).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0601-141 DASG

System name:

Applications for Appointment to Army Medical Department.

System location:

Primary location: Commander, U.S. Army Recruiting Command, Health Services Directorate, Fort Knox, KY 40121-2726. Secondary locations: Army Medical Department Health Care Recruiting Teams/Stations. Official mailing addresses are published as an appendix to the Army’s compilation of record systems notices.

Categories of individuals covered by the system:

Potential healthcare professional applicants, to include civilian, active duty and reserve duty personnel, applying for appointment in the U.S. Army and the U.S. Army Reserve with or without concurrent call to active duty.

Categories of records in the system:

Health Care Recruiter interview, resume, Curriculum Vitae, autobiography, letters of recommendation, selection/non-selection letters, Special Orders, correspondence to, from, and about applicant; Selection Board/Committee results, Statement of Interests, Objectives and Motivation, Letter of Appointment, service agreement, Application for Appointment, oath of office, professional degrees, license certifications, quality assurance documents, prior service records, physical examination, National Practitioner, and birth certificate.

Authority for maintenance of the system:

10 U.S.C. 3013, Secretary of the Army; Army Regulation 601-100, Appointment of Commissioned and Warrant Officers in the Regular Army; and E.O. 9397 (SSN).

Purpose(s):

To evaluate an applicant's acceptability and potential for appointment in the U.S. Army Reserve of the Army Medical Department; to evaluate qualifications for assignment to various career areas; to determine educational and experience background for award of constructive service credit; to determine dates of service and seniority to document service agreement with the U.S. Army; to provide, statistical information for effective management of the Army Medical Department Recruiting Program.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

By applicant's name and/or Social Security Number.

Safeguards:

Records are restricted to designated officials having a need-to-know in the performance of official duties.

Retention and disposal:

Records of selected applicants are held for 1 year before being destroyed by shredding; those for applicants not selected are held 1 year and then destroyed.

System manager(s) and address:

Commander, U.S. Army Recruiting Command, Health Services Directorate, Fort Knox, KY 40121-2726.

Notification procedure:

Individuals seeking to determine if information about themselves is contained in this record system should address written inquiries to the Commander, U.S. Army Recruiting Command, Health Services Directorate, Fort Knox, KY 40121-2726.

For verification purposes, the individual should provide full names, Social Security Number, sufficient details to permit locating pertinent records, and signature.

Record access procedures:

Individuals seeking access to records about themselves contained in this record system should address written inquiries to the Commander, U.S. Army Recruiting Command, Health Services Directorate, Fort Knox, KY 40121-2726.

For verification purposes, the individual should provide full name, Social Security Number, sufficient details to permit locating pertinent records, and signature.

Contesting record procedures:

The Army's rules for accessing records, and for contesting contents and appealing initial agency determinations are contained in Army Regulation 340-21; 32 CFR part 505; or may be obtained from the system manager.

Record source categories:

From the individual; academic transcripts; faculty evaluations; employer evaluations; military supervisor evaluations; American Testing Program; Educational Testing Service; selection board/committee records; prior military service records.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) and published in 32 CFR part 505. For additional information contact the system manager.

A0601-210a USAREC

System name:

Enlisted Eligibility Files (February 22, 1993, 58 FR 10002).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0601-210a USAREC

System name:

Enlisted Eligibility Files.

System location:

U.S. Army Recruiting Command, Fort Knox, KY 40121-5000.

Categories of individuals covered by the system:

Applicants for the Regular Army who have requested a waiver of moral eligibility for a juvenile or adult felony; determination of medical/Military Occupational Specialty qualifications, determination of Stripes for Skills qualification; exceptions to policy; determination of enlistment eligibility, and prior service personnel requesting a mental retest.

Categories of records in the system:

Individual’s request, evaluation documents, decisions, replies concerning approval/disapproval.

Authority for maintenance of the system:

10 U.S.C. 3013, Secretary of the Army; 10 U.S.C. 504, Persons not qualified; and Army Regulation 601-210, Regular Army and Army Reserve Enlistment Program.

Purpose(s):

To make determinations on the moral, medical, and administrative waivers of applicants for the Regular Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders.

Retrievability:

By individual's surname.

Safeguards:

Records are accessed only by designated individuals having official need therefore in the performance of assigned duties.

Retention and disposal:

Destroyed after 2 years, by shredding.

System manager(s) and address:

Commander, U.S. Army Recruiting Command, Fort Knox, KY 40121-5000.

Notification procedure:

Individuals wishing to know whether or not information on them is contained in this system of records should write to the Commander, U.S. Army Recruiting Command, Attn: USARCRM-M, Fort Knox, KY 40121-5000, furnishing full name, Military Status, current address and telephone number, and signature.

Record access procedures:

Individuals desiring access to records about themselves should write to the Commander, U.S. Army Recruiting Command, Attn: USARCRM-M, Fort Knox, KY 40121-5000, furnishing full name, Military Status, current address and telephone number, and signature.

Contesting record procedures:

The Army's rules for accessing records, and for contesting contents and appealing initial agency determinations are contained in Army Regulation 340-21; 32 CFR part 505; or may be obtained from the system manager.

Record source categories:

From the individual, employers, probation officials, law enforcement officials, school officials, personal references, transcripts, medical records, Army records and reports.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c), and (e) and published in 32 CFR part 505. For additional information contact the system manager.

A0608-18 DASG

System name

Army Family Advocacy Program Files (August 21, 2001, 66 FR 43847).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0608-18 DASG

System name:

Army Family Advocacy Program Files.

System location:

Primary location: Director, U.S. Army Patient Administration Systems and Biostatistics Activity, Attn: MCHS-ISF, 1216 Stanley Road, Fort Sam Houston, TX 778234-5053.

Secondary location: Any Army medical treatment facility which supports the Family Advocacy Program (FAP). Official mailing addresses are published as an appendix to the Army’s compilation of record systems notices.

Categories of individuals covered by the system:

Eligible military members and their family, and DoD civilians who participate in the Family Advocacy Program (FAP).

Categories of records in the system:

Family Advocacy Case Review Committee (CRC) records of established cases of child/spouse abuse or neglect to include those occurring in Army sanctioned or operated activities. Files may contain extracts of law enforcement investigative reports, correspondence, Case Review Committee reports, treatment plans and documentation of treatment, follow-up and evaluative reports, supportive data relevant to individual family advocacy Case Review Committee files, summary statistical data reports and similar relevant files.

Authority for maintenance of the system:

10 U.S.C. 3013, Secretary of the Army; 42 U.S.C. 10606 et seq., Victims' Rights, as implemented by Department of Defense Instruction 1030.2, Victim and Witness Assistance Program; Army Regulation 608-18, The Family Advocacy Program; and E.O. 9397 (SSN).

Purpose(s):

To maintain records that identify, monitor, track and provide treatment to alleged offenders, eligible victims and their families of substantiated spouse/child abuse, and neglect. To manage prevention programs to reduce the incidence of abuse throughout the Army military communities.

To perform research studies and compile statistical data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to departments and agencies of the Executive Branch of government in performance of their official duties relating to coordination of family advocacy programs, medical care and research concerning child abuse and neglect, and spouse abuse.

The Attorney General of the United States or his authorized representatives in connection with litigation or other matters under the direct jurisdiction of the Department of Justice or carried out as the legal representative of the Executive Branch agencies.

To federal, state, or local governmental agencies when it is deemed appropriate to use civilian resources in counseling and treating individuals or families involved in child abuse or neglect or spouse abuse; or when appropriate or necessary to refer a case to civilian authorities for civil or criminal law enforcement; or when a state, county, or municipal child protective service agency inquires about a prior record of substantiated abuse for the purpose of investigating a suspected case of abuse.

To the National Academy of Sciences, private organizations and individuals for health research in the interest of the Federal government and the public and authorized surveying bodies for professional certification and accreditation such as Joint Commission on the Accreditation of Health Care Organizations.

To victims and witnesses of a crime for purposes of providing information consistent with the requirements of the Victim and Witness Assistance Program, regarding the investigation and disposition of an offense.

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and on electronic storage media.

Retrievability:

By the sponsor's Social Security Number of an abused victim.

Safeguards:

Records are maintained in various kinds of filing equipment in specified monitored or controlled areas. Public access is not permitted. Records are accessible only to authorized personnel who are properly screened and trained, and have an official need-to-know. Computer terminals are located in supervised areas with access controlled by password or other user code system.

Retention and disposal:

Disposition pending (until the National Archives and Records Administration has approved the retention and disposal of these records, treat as permanent).

System manager(s) and address:

Director, U.S. Army Community Family Support, 4700 King Street, Alexandria, VA 22302-4420.

Notification procedure:

Individuals seeking to determine if information about themselves is contained in this record system should address written inquiries to the local Patient Administration Division Office; to the commander of the medical center or hospital where treatment was received; or to the Director, Patient Administration Systems and Biostatistics Activity, 126 Stanley Road, Fort Sam Houston, TX 78234-5053. Official mailing addresses are published as an appendix to the Army's compilation of record systems notices.

For verification purposes, the individual should provide the full name, Social Security Number of the patient's sponsor, and current address, date and location of treatment, and any details that will assist in locating the record, and signature.

Record access procedures:

Individuals seeking to access information about themselves contained in this record system should address written inquiries to the local Patient Administration Division Office; to the commander of the medical center or hospital where treatment was received; or to the Director, Patient Administration Systems and Biostatistics Activity, 126 Stanley Road, Fort Sam Houston, TX 78234-5053. Official mailing addresses are published as an appendix to the Army's compilation of record systems notices.

For verification purposes, the individual should provide the full name, Social Security Number of the patient's sponsor, and current address, date and location of treatment, and any details that will assist in locating the record, and signature.

Contesting record procedures:

The Army's rules for accessing records, and for contesting contents and appealing initial agency determinations by the concerned individual are published in the Department of the Army Regulation 340-21; 32 CFR part 505; or may be obtained from the system manager.

Record source categories:

From the individual, educational institutions, medical institutions, police and investigating officers, state and local government agencies, witnesses, and records and reports prepared on behalf of the Army by boards, committees, panels, auditors, etc. Information may also derive from interviews, personal history statements, and observations of behavior by professional persons (i.e., social workers, physicians, including psychiatrists and pediatricians, psychologists, nurses, and lawyers).

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c), and (e) and published in 32 CFR part 505. For additional information contact the system manager.

A0621-1 DASG

System name:

Long-Term Civilian Training Student Control Files (July 27, 1993, 58 FR 40115).

Changes:

* * * * *

Routine uses of records maintained in the system, including categories of users and the purposes of such uses:

Add to end of entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

A0621-1 DASG

System name:

Long-Term Civilian Training Student Control Files.

System location:

U.S. Army Health Professional Support Agency, 5109 Leesburg Pike, Falls Church, VA 22041-3258.

Categories of individuals covered by the system:

All Army Medical Department personnel currently participating in long-term civilian training on a fully funded basis.

Categories of records in the system:

Enrollment applications, notification of acceptance/rejection, contract between the Army and the civilian college or university, similar relevant documents and reports.

Authority for maintenance of the system:

10 U.S.C. 4301, Members of Army: Detail as students, observers, and investigator at educational institutions, industrial plants and hospitals; 10 U.S.C. 3013, Secretary of the Army; Army Regulation 621-1, Training of Military Personnel at Civilian Institutions; and E.O. 9397 (SSN).

Purpose(s):

To negotiate contract between the Army and a civilian academic institution for the purpose of sending Army Medical Department officer and enlisted personnel for long-term civilian training under fully funded programs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Individual's name and/or Social Security Number.

Safeguards:

All records are maintained in secured offices in secured buildings. Electronic key required to access elevators to floor housing records during non-duty hours.

Retention and disposal:

Records destroyed 2 years after an individual has completed training or has been canceled or withdrawn from the program.

System manager(s) and address:

Office of the Surgeon General, Headquarters, Department of the Army, 5109 Leesburg Pike, Falls Church, VA 22041-3258.

Notification procedure:

Individuals seeking to determine if information about themselves is contained in this record system should address written inquiries to the Commander, U.S. Army Health Professional Support Agency, Attn: SGPS-EDT, 5109 Leesburg Pike, Falls Church, VA 22044-3258.

For verification purposes, the individual should provide the full names, Social Security Number, current address, current unit of assignment (if on active duty), sponsoring program and calendar years in training, and signature.

Record access procedures:

Individuals seeking access to records about themselves contained in this record system should address written inquiries to the Commander, U.S. Army Health Professional Support Agency, Attn: SGPS-EDT, 5109 Leesburg Pike, Falls Church, VA 22044-3258.

For verification purposes, the individual should provide the full names, Social Security Number, current address, current unit of assignment (if on active duty), sponsoring program and calendar years in training, and signature.

Contesting record procedures:

The Army's rules for accessing records, contesting contents, or appealing initial agency determinations are contained in Army Regulation 340-21; 32 CFR part 505; or may be obtained from the system manager.

Record source categories:

From the individual, Army records and reports, correspondence with the selecting academic institution.

Exemptions claimed for the system:

None.

[FR Doc. 03-8016 Filed 4-3-03; 8:45 am]

BILLING CODE 5001-08-P